DEPARTMENT OF COMMERCE

National Telecommunications and Information Administration

[Docket No. 060602142-6142-01]

The President's Spectrum Policy Initiative Spectrum Sharing Innovation Test-Bed

AGENCY: National Telecommunications and Information Administration, U.S. Department of Commerce

ACTION: Notice of Inquiry.

SUMMARY: The reports developed by the U.S. Department of Commerce in response to the President's Spectrum Policy Initiative included a recommendation that the National Telecommunications and Information Administration (NTIA) and the Federal Communications Commission (FCC) develop a plan to increase sharing of spectrum between Federal and non-Federal users which includes evaluation of technologies that are proposed to enhance sharing.¹ This Notice seeks public comment to address the implementation of the Spectrum Sharing Innovation Test-Bed (Test-Bed) where Federal and non-Federal users can study the feasibility of increasing the efficient use of the spectrum.

¹ Spectrum Policy for the 21st Century -- The President's Spectrum Policy Initiative: Report 1 Recommendations of the Federal Government Spectrum Task Force and Spectrum Policy for the 21st Century -- The President's Spectrum Policy Initiative: Report 2 Recommendations From State and Local Governments and Private Sector Responders, National Telecommunications and Information Administration, U.S. Department of Commerce (June 2004), available at http://www.ntia.doc.gov/reports/.

DATES: Written comments and papers in response to this Notice are requested to be submitted on or before July 10, 2006.

ADDRESSES: Submit an original and two copies of written comments to the Office of the Chief Counsel, National Telecommunications and Information Administration, U.S. Department of Commerce, 1401 Constitution Avenue, NW., Room 4713, Attention: Spectrum Sharing Innovation Test-Bed Notice, Washington, DC 20230. Paper submissions should include a three and one-half inch computer diskette in HTML, ASCII, Word, or WordPerfect format (please specify version). Diskettes should be labeled with the name and organizational affiliation of the filer, and the name of the word processing program used to create the document. Alternatively, comments and papers may be submitted electronically to testbed@ntia.doc.gov. Comments submitted via electronic mail also should be submitted in one or more of the formats specified above. Comments submitted in response to this Notice will be posted on NTIA's Web site.

FOR FURTHER INFORMATION CONTACT: For questions about this Notice, contact: Edward Drocella, National Telecommunications and Information Administration, U.S. Department of Commerce, 1401 Constitution Avenue, NW., Room 6725, Washington, DC 20230, (202) 482-2608, or edrocella@ntia.doc.gov.

SUPPLEMENTARY INFORMATION:

I. Background

In May 2003, President Bush established the Spectrum Policy Initiative to promote the development and implementation of a United States spectrum policy for the 21st century. In response to the Spectrum Policy Initiative, the Secretary of Commerce established a Federal Government Spectrum Task Force and initiated a series of public meetings to address policies affecting spectrum use by the Federal, state, and local governments, and the private sector. The recommendations resulting from these activities were included in two reports released by the Secretary of Commerce in June 2004 (Commerce Reports). Based on the recommendations contained in these reports, the President directed the federal agencies on November 30, 2004, to plan the implementation of the recommendations contained in the reports.²

² White House Executive Memorandum, Improving Spectrum Management for the 21st Century (November 2004).

One of the recommendations directed NTIA, in coordination with the FCC, to establish a Test-Bed to examine the feasibility of increased sharing between Federal and non-Federal users.³ Specifically, the Test-Bed recommendation states:

³ By this Notice of Inquiry, NTIA is implementing its responsibilities under the President's November 2004 Executive Memorandum. The FCC is also soliciting comment on many of these same issues through a public notice. Public Notice, Federal Communications Commission Seeks Public Comment on Creation of a Spectrum Sharing Innovation Test-Bed, ET Docket No. 06-89.

Within two years of this report's publication, NTIA and the FCC should establish a pilot program to allow for increased sharing between Federal and non-Federal users. NTIA and the FCC should each identify a segment of spectrum of equal bandwidth within their respective jurisdiction for this program. Each segment should be approximately 10 MHz for assignment on a shared basis for Federal and non-Federal use. The spectrum to be identified for this pilot program could come from bands currently allocated on either an exclusive or shared basis. Two years after the inception of the pilot program, NTIA and the FCC should provide reports outlining the results and suggesting appropriate procedures for expanding the program as appropriate.

The recommendation to establish the Test-Bed recognized that the current use of spectrum for Federal and non-Federal communications necessitates increased sharing to benefit both Federal and non-Federal users of the spectrum. Establishment of the objectives, rules, guidelines, and responsibilities for the Test-Bed will be essential to the success of this sharing effort and will be vital to the consideration of any future follow-on sharing initiatives.

Examples of technologies/services that could be considered in the Test-Bed include: High-power broadband, public safety interoperability, adaptive technologies (geo-location, frequency avoidance, waveform detection), advanced antenna technologies, sharing between Federal and non-Federal mobile satellite systems, advanced modulation techniques, multiple input/multiple output systems, extensions to third generation wireless services for public safety and federal users, mobile mesh networking, and geographic sharing. The Test-Bed may also be used to evaluate new frequency assignment/coordination techniques such as the web-based capability in the 70/80/90 GHz bands or sharing using the interference temperature concept.⁴

⁴ As part of the President's Initiative to streamline U.S. spectrum policy, fiber-speed wireless communications links in the 71-76 GHz, 81-86 GHz, 92-94 GHz and 94.1-95 GHz bands may now be coordinated and approved for non-Federal use in a manner of minutes using a web-based capability developed by NTIA. The public may access the automated system at the following webpage: http://freqcoord.ntia.doc.gov.

II. Invitation to Comment

Establishment of the objectives, rules, guidelines, and responsibilities will be essential to the success of the Test-Bed. The questions related to the Test-Bed will be divided into five categories: (A) Identification of the technologies/services to be considered in the Test-Bed; (B) establishment of the process, principles, and guidelines governing the Test-Bed; (C) identification of the candidate frequency band(s) for the Test-Bed; (D) activation/termination of the Test-Bed; and (E) evaluation of the Test-Bed.

In conjunction with providing information for consideration by NTIA, interested parties are requested to address the following questions and file comments that will assist NTIA in implementing a Test-Bed that will benefit both Federal and non-Federal users. Commenters may include any other issue that is relevant to the areas outlined below and should provide copies of studies, reports, research or other empirical data referenced in their responses. Comments will be posted on NTIA's Web site at http://www.ntia.doc.gov. These questions are intended to promote discussion and comment across a range of issues and are not intended to limit the scope of the comments filed in response to this Notice.

A. Identification of Technologies/Services Considered in the Test-Bed

What technologies, services, assignment techniques, or sharing techniques should be implemented in the Test-Bed?

What relationships should the technologies, services, assignment techniques, or sharing techniques have with the candidate frequency band(s) identified for the Test-Bed?

Should the Test-Bed be limited to prototype/operational equipment or can hardware simulation also be employed? If simulation can be employed, explain the conditions under which it is appropriate.

How does the proposed technology or service achieve the goal of the Test-Bed (e.g., increase sharing)? Please provide a detailed description explaining how the proposed technology or service increases sharing with other radio services.

B. Identification of the Candidate Frequency Band(s) for the Test-Bed

The Test-Bed recommendation included in the Commerce Reports called for approximately 20 MHz to be dedicated to the Test-Bed. How much spectrum should be identified for the Test-Bed?

What candidate frequency band(s) should be used in the Test-Bed? What criteria should be used in identifying candidate frequency band(s) for the Test-Bed? Please provide supporting information for frequency band(s) selected.

What limitations should apply to the candidate frequency band(s) identified for the Test-Bed (e.g., geographic, power, antenna gain, time of day, etc.)?

What steps should be taken to protect incumbent users in the candidate frequency bands? Should an initial electromagnetic compatibility analysis (e.g., computer simulations) be performed to develop the operating conditions for the Test-Bed (e.g., limits on radiated power levels, restrictions on antenna, geographic limitations)?

C. Establishment of the Process, Principles, and Guidelines Governing the Test-Bed

What resources (including the equipment to be evaluated in the Test-Bed), funding, personnel, or test facilities are necessary for the Test-Bed?

How should the process, principles, and guidelines for the Test-Bed be specified (e.g., Cooperative Research and Development Agreement (CRADA), FCC Experimental License)?

What information should be included in the controlling document (e.g., CRADA or FCC Experimental License) for the Test-Bed? How should the terms and conditions be specified for the Test-Bed (e.g., general, band-by-band)?

What procedures should be defined for resolving conflicts that might arise between operational incumbents and the technologies/services implemented in the Test-Bed?

At the completion of the Test-Bed, what should happen to the technology/service that is operating in the candidate frequency band? Should the technology/service be permitted to continue operating on a permanent basis and new spectrum identified for the next Test-Bed? If the technology/service is shown to be compatible, should a procedure be developed to find a permanent frequency band?

Under what circumstances should the initial conditions of the Test-Bed be modified (e.g., spectrum resources increased, locations expanded, time-frame increased)?

Who should be responsible for providing the test personnel and equipment for the Test-Bed?

Should organizations with proprietary technology or information be permitted to participate in the Test-Bed? If so, how should release of data based on their technology be handled?

D. Activation/Termination of the Test-Bed

Should computer simulations be performed before the Test-Bed is activated?

Should a test plan be developed and agreed to by all parties before the Test-Bed is activated? If so, who should be responsible for developing the test plan? What process should be used to review the test plan?

Under what conditions should the Test-Bed be terminated (e.g., problems with equipment)?

E. Evaluation of the Test-Bed

What metrics should be used in evaluating the results of the Test-Bed?

Should status reports be prepared throughout the duration of the Test-Bed (e.g., 6 months)?

Who should be responsible for analyzing the data from the Test-Bed and preparing the final report?

III. Selection Criteria for Test-Bed

The following criteria are being proposed to evaluate and select the proposed technology or service to be implemented in the Test-Bed. Comments are requested on the proposed Test-Bed selection criteria.

How well does the proposed technology or service achieve the goal of the Test-Bed?

How readily available is the equipment proposed for the Test-Bed?

How well does the proposed technology or service explore creative and original concepts in spectrum sharing?

For the proposed technology or service can the results of the Test-Bed be disseminated broadly to enhance scientific and technologic understanding? If so, how broadly can the results be applied?

How well does the proposed technology or service address the potential impact on the incumbent spectrum user(s)?

How much and in what ways does the proposed technology or service benefit the public?

Are there any technical factors that limit the proposed technology or service to a specific frequency range?

Will the necessary technical support be provided to assure performance of the equipment during the Test-Bed? If so, how sufficient is the proposed support?

Dated: June 2, 2006.
Milton E. Brown,
Acting Chief Counsel, National Telecommunications and Information Administration.

[FR Doc. E6-8874 Filed 6-7-06; 8:45 am]

BILLING CODE 3510-60-S